DEPARTMENT OF ENERGY

Federal Energy Regulatory Commission

[Docket No. EL18-11-000]

Cooperative Energy; Notice of Petition for Partial Waiver

Take notice that on October 19, 2017, pursuant to section 292.402 of the Federal Energy Regulatory Commission's (Commission) Rules of Practices and Procedures 18 CFR 292.402 (2017), Cooperative Energy on behalf of itself and its eleven electric distribution cooperative members-owners (collectively, the Members),¹ submitted a request that the Commission waive certain obligations imposed on Cooperative Energy and the Members under sections 292.303(a) and 292.303(b) of the Commission's Regulations ² implementing section 210 of the Public Utility Regulatory Policies Act of 1978 ³ as amended, as more fully explained in its petition.

¹ Cooperative Energy's eleven Member-owners are: Coahoma EPA (Lyon, MS); Delta EPA (Greenwood, MS); Twin County EPA (Hollandale, MS); Yazoo Valley EPA (Yazoo City, MS); Southwest MS EPA (Lorman, MS); Southern Pine Electric Cooperative (Taylorsville, MS); Magnolia EPA (McComb, MS); Dixie EPA (Laurel, MS); Pearl River Valley EPA (Columbia, MS); Coast EPA (Kiln, MS); and Singing River Electric Cooperative (Lucedale, MS).

² 18 CFR 292.303(a) and (b) (2017).

³ 16 U.S.C. 824a-3 (2012).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant.

The Commission encourages electronic submission of protests and interventions in lieu of paper using the eFiling link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an eSubscription link on the Web site that enables subscribers to receive email notification when a document is added to a subscribed docket(s). For assistance with any FERC Online service, please email FERCOnlineSupport@ferc.gov, or call (866) 208-3676 (toll free). For TTY, call (202) 502-8659.

Comment Date: 5:00 p.m. Eastern time on November 9, 2017.

Dated: October 23, 2017.
Kimberly D. Bose,
Secretary.

[FR Doc. 2017-23414 Filed 10-26-17; 8:45 am]

BILLING CODE 6717-01-P